ENVIRONMENTAL PROTECTION AGENCY

[FRL-9917-88-OEI; EPA-HQ-OEI-2014-0466]

Notification of a New System of Records Notice for the Labor and Employee Relations Information System (LERIS)

AGENCY: Environmental Protection Agency.

ACTION: Notice.

SUMMARY: The U.S. Environmental Protection Agency's (EPA) Office of Administration and Resources Management is giving notice that it proposes to create a new system of records pursuant to the provisions of the Privacy Act of 1974 (5 U.S.C. 552a). The Labor and Employee Relations Information System (LERIS) is being created to meet the needs of the Labor and Employee Relations (LER) Specialists, Attorney Advisors and Agency Leadership. This system will enable LER employees to access case information across the EPA for use in determining appropriate disciplinary penalties as well as reporting trends in LER issues. The system is accessed from an Internet browser using the Agency's secured portal.

DATES: Persons wishing to comment on this system of records notice must do so by December 15, 2014.

ADDRESSES: Submit your comments, identified by Docket ID No. EPA-HQ-OEI-2014-0466, by one of the following methods:

• www.regulations.gov: Follow the online instructions for submitting comments.

• Email: oei.docket@epa.gov.

• Fax: 202-566-1752.

• Mail: OEI Docket, Environmental Protection Agency, Mail code: 2822T, 1200 Pennsylvania Ave. NW., Washington, DC 20460.

• Hand Delivery: OEI Docket, EPA/DC, WJC West Building, Room 3334, 1301 Constitution Ave. NW., Washington, DC. Such deliveries are only accepted during the docket's normal hours of operation, and special arrangements should be made for deliveries of boxed information.

Instructions: Direct your comments to Docket ID No. EPA-HQ-OEI-2014-0466. The EPA's policy is that all comments received will be included in the public docket without change and may be made available online at www.regulations.gov, including any personal information provided, unless the comment includes information claimed to be Confidential Business Information (CBI) or other information for which disclosure is restricted by statute. Do not submit information that you consider to be CBI or otherwise protected through www.regulations.gov. The www.regulations.gov Web site is an “anonymous access” system, which means the EPA will not know your identity or contact information unless you provide it in the body of your comment. If you send an email comment directly to the EPA without going through www.regulations.gov, your email address will be automatically captured and included as part of the comment that is placed in the public docket and made available on the Internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption, and be free of any defects or viruses. For additional information about the EPA's public docket visit the EPA Docket Center homepage at http://www.epa.gov/epahome/dockets.htm.

Docket: All documents in the docket are listed in the www.regulations.gov index. Although listed in the index, some information is not publicly available, (e. g., CBI or other information for which disclosure is restricted by statute). Certain other material, such as copyrighted material, will be publicly available only in hard copy. Publicly available docket materials are available either electronically in www.regulations.gov or in hard copy at the OEI Docket, EPA/DC, WJC West Building, Room 3334, 1301 Constitution Ave. NW., Washington, DC. The Public Reading Room is open from 8:30 a.m. to 4:30 p.m. Monday through Friday excluding legal holidays. The telephone number for the Public Reading Room is (202) 566-1744, and the telephone number for the OEI Docket is (202) 566-1752.

FOR FURTHER INFORMATION CONTACT: Mitch Berkenkemper (202) 564-4702.

SUPPLEMENTARY INFORMATION:

General Information

The U.S. Environmental Protection Agency (EPA) plans to create a Privacy Act system of records for the Labor and Employee Relations Information System (LERIS). LERIS will be used by LER Specialists, personnel or labor attorneys in the Office of Regional Counsel and EPA headquarters, LER attorneys in the EPA headquarters, and attorneys in the Office of General Counsel for the processing of grievances, demands to bargain, information requests and unfair labor practices filed by unions on behalf of their bargaining unit members, and processing disciplinary actions or performance-based actions against employees for misconduct or deficient job performance. LERIS will enable LER employees to access case information across the Agency for use in determining appropriate disciplinary penalties when those grievances, complaints, unfair labor practices or disciplinary actions lead to formal judicial or administrative hearings before a judge. The system will also report trends in LER issues.

The implementation of LERIS will have no effect on the privacy of individuals. The system is password-protected and access is restricted to Agency Human Resources (HR) specialists and legal staff who have a work-related need to utilize the information in the system. Permission-level assignments allow users access only to those functions for which they are authorized. All records are maintained in secure, access-controlled areas or buildings. The system is accessed from an internet browser using the Agency's secured portal and requires a user to have an established log-in name and password.

The system is maintained at a contractor's Xiolink facility in St. Louis, Missouri. LERIS is maintained by the Office of Human Resources, Labor and Employee Relations Division.

Dated: September 23, 2014.
Renee P. Wynn,
Acting Assistant Administrator and Chief Information Officer.

EPA-68

System Name:

Labor and Employee Relations Information System (LERIS)

System Location:

Xiolink Facility, 1111 Olive St., St. Louis, MO 63101.

Categories of Individuals Covered by the System:

Current and former EPA employees, including Health and Human Services (HHS) Public Health Service Commissioned Officers assigned to the EPA.

Categories of Records in the System:

This system will contain general human resources elements, including First/Middle/Last Name, Appointment Type, Appointment Not-to-Exceed Date (if applicable), Service Computation Date for Leave Accrual Purposes, Service Computation Date for Retirement Eligibility Purposes, Position Title, Pay Plan, Occupational Series, Grade, Step, Supervisory Code, Bargaining Unit Status Code, Organizational Breakdown of Position's Location (“Organization Level 1” through “Organizational Level 8,” as applicable) and Duty Station. The system will contain Labor Relations case file information regarding administrative grievances, Grievances of the Parties, negotiated grievances, formal discussions/meetings, union information requests, negotiations, unfair labor practice (ULP) charges, and unit clarification petitions. The system will contain Employee Relations case file information regarding employee counseling for misconduct or poor performance, disciplinary actions, adverse actions, performance-based actions, performance assistance plans, performance improvement plans, reasonable accommodation requests and Merit System Protection Board (MSPB) appeals.

Authority for Maintenance of the System:

5 U.S.C. Chapter 71; 5 CFR 771; 5 CFR 752; 5 CFR 432.

Purpose (s):

These records are maintained in LERIS to administer EPA's Labor and Employee Relations program. They also provide the basic source of factual data about a person's federal employment while in the service and after his or her separation. Records in LERIS have various uses by Agency personnel offices, including employee's rights and benefits under pertinent laws and regulations governing Federal employment; and other information needed to provide personnel services. These records and their automated equivalents may also be used to locate individuals for personnel research.

Routine Uses of Records Maintained in the System, Including Categories of Users and the Purposes of Such Uses:

General routine uses A, B, C, D, E, and L apply to this system.

Policies and Practices for Storing, Retrieving, Accessing, Retaining, and Disposing of Records in the System:

• Storage: These records are maintained in digital formats on servers and storage hard disks. The computer storage devices are located at the contractor's Xiolink facility in St. Louis, MO. Backup copies of this information are maintained at an alternate processing site in Bellevue, NE. Data is on hard disk media and retained per client requirements. Additional backup copies of each application are taken annually and retained for 7 years.

• Retrievability: These records are retrieved by the employee identification number or name.

• Safeguards: Computer records are maintained in a secure password-protected environment. Access to computer records is limited to those who have a need to know the information contained in the records. Permission-level assignments allow users access only to those functions for which they are authorized. All records are maintained in secure, access-controlled areas or buildings.

• Retention and Disposal: Records stored in the system are subject to records schedule 756.

System Manager(s) and Address:

Director, Office of Human Resources, Office of Administration and Resources Management, U.S. Environmental Protection Agency, WJC North, 1200 Pennsylvania Avenue NW., MC 3601, Washington, DC 20460.

Notification Procedure:

Any individual who wants to know whether this system of records contains a record about him or her, who wants access to his or her record, or who wants to contest the contents of a record, should make a written request to the EPA FOIA Office, Attn: Privacy Act Officer, WJC West, MC 2822T, 1200 Pennsylvania Ave. NW., Washington, DC 20460.

Record Access Procedure:

Individuals seeking access to information in this system of records about themselves are required to provide adequate identification (e.g. driver's license, military identification card, employee badge or identification card and, if necessary, proof of authority). Additional identity verification procedures may be required, as warranted. Requests must meet the requirements of EPA regulations that implement the Privacy Act of 1974, at 40 CFR part 16.

Contesting Records Procedure:

Requests for correction or amendment must identify the record to be changed and the corrective action sought. Complete EPA Privacy Act procedures are described in EPA's Privacy Act regulations at 40 CFR part 16.

Record Source Categories:

The individual on whom the record is maintained, Agency officials such as managers and supervisors, HR specialists and assistants who process personnel actions, and HR Shared Service Centers.

System Exempted from Certain Provisions of the Act:

None.

[FR Doc. 2014-26175 Filed 11-3-14; 8:45 am]

BILLING CODE 6560-50-P